DEPARTMENT OF EDUCATION

[CFDA No.: 84.144]

Migrant Education Program (MEP) Consortium Incentive Grants program

ACTION: Notice inviting applications for new awards for fiscal year 2002.

Purpose of Program: The purpose of the FY 2002 MEP Consortium Incentive Grants program is to provide incentive grants to State educational agencies (SEAs) that participate in consortium arrangements with another State or appropriate entity to improve the delivery of services to migrant children whose education is interrupted.

Eligible Applicants: SEAs receiving MEP Basic State Formula grants.

Applications Available: April 26, 2002.

Deadline for Transmittal of Applications: June 3, 2002.

Deadline for Intergovernmental Review: August 2, 2002.

Available Funds: $2,300,000.

Estimated Range of Awards: $25,000-$75,000.

Estimated Average Size of Awards: $57,500.

Estimated Number of Awards: 40.

Project Period: Up to 27 months.

SUPPLEMENTARY INFORMATION: The Migrant Education Program (MEP) is authorized under the Elementary and Secondary Education Act of 1965 (ESEA), as amended by the No Child Left Behind Act of 2001 (Pub. L. 107-110). The MEP provides financial assistance to States to support high-quality and comprehensive educational programs so that migrant children are provided with appropriate educational and supportive services that (1) address their special needs in a coordinated and efficient manner, and (2) give migrant children the opportunity to meet challenging State content and student performance standards.

Section 1308(d) of the ESEA authorizes the Secretary to provide competitive incentive grants to SEAs that participate in consortium arrangements with another State or appropriate entity to improve the delivery of services to migrant children. Section 1308(d) also limits the size of each of these grants to not more than $250,000. For the FY 2002 competition, the Secretary plans to reserve $2.3 million for consortium incentive grant awards.

Through this notice the Secretary announces requirements and procedures to govern the competition for FY 2002 grant funds. So that existing consortia relationships that were established under the ESEA as previously authorized may be maintained and funded without disruption of services for migrant students, the Secretary has decided to announce these requirements and procedures at this time without first providing the public an opportunity for review and comment. Except for the new statutory requirement in Section 1308(d) that the consortium arrangements improve the delivery of services to migrant students whose education is interrupted, the requirements and procedures for the upcoming FY 2002 competition are the same as the Secretary has used for competitions conducted under the ESEA as previously authorized.

Waiver of Proposed Rulemaking

Under the Administrative Procedure Act (5 U.S.C. 553) the Department generally offers interested parties the opportunity to comment on proposed regulations. However, in order to make timely grant awards in FY 2002, the Secretary has decided to issue these final requirements without first publishing them as proposals for public comment. These requirements will apply to the FY 2002 grant competition only. The Secretary takes this action under section 437(d)(1) of the General Education Provisions Act.

At a later date the Secretary plans to publish a notice of proposed requirements for this program and offer interested parties the opportunity to comment. The proposed requirements (or more specifically, the final requirements resulting from them) would apply to grant competitions under the program beginning in FY 2003.

Requirements and Procedures To Govern the FY 2002 Grant Competition

The Secretary will award consortium incentive grants for FY 2002 under section 1308(d) to SEAs that propose to form a consortium with another State or entity and demonstrate in accordance with section 1303(d)(3) of the ESEA that doing so will—

a. Reduce administrative costs or program function costs for State MEP programs; and

b. Make more MEP funds available for direct services to add substantially to the welfare or educational attainment of children to be served.

In addition, section 1308(d) requires that SEAs receiving grants form consortia to improve the delivery of services to migrant students whose education has been interrupted.

Applicable Definitions

For purposes of this program, “administrative or program function costs” include all costs that an SEA or its local operating agencies pay from MEP funds to support MEP activities other than direct educational or support services for migrant children. Administrative and program function costs include the costs of general program administration paid from funds reserved under section 1004 of ESEA as well as the costs of other, program-specific administrative activities, such as identification and recruitment; interstate, intrastate, and interagency coordination; and parent advisory councils. The term “direct educational or support services” means any instructional or support activities provided directly to migrant children, as well as training of instructional or support staff who provide instructional or support services directly to migrant children.

In addition, for purposes of section 1308(d) the term “other appropriate entity” can mean any public or private agency or organization.

Application Requirements

A single SEA may be part of more than one consortium arrangement. However, consistent with the provisions in section 1303(d) of the ESEA, for the FY 2002 competition each consortium arrangement that the Secretary approves must separately decrease the amount of MEP administrative or program function costs in total for the participating SEAs and, conversely, increase the amount of MEP funds available for direct services to migrant children in total for the participating SEAs. An SEA will submit the information that the Department needs in order to review the SEA's consortium arrangement and determine the size of the SEA's consortium incentive grant.

Amount of Incentive Grants

Each SEA with one or more consortium arrangements that the Secretary determines meet the criteria announced in this notice, and whose consortium arrangements increase the amount of MEP funds available for direct services to migrant children in its State, will receive one incentive award. In determining the size of an SEA's award, the Secretary will rank SEAs seeking incentive grants on the basis of the total percentage increase in MEP funds that the SEA will make available for direct services to migrant children in its State as a result of the SEA's participation in the consortium arrangements, as compared to the level of direct services that would be made available to migrant children in the State in the absence of the consortium.

Example 1: SEA A has one consortium arrangement that increases the amount of funds available for direct services in State A by ten percent, while SEA B has two consortium arrangements that increase the total amount of funds available for direct services in State B by eight percent. SEA A would be ranked higher than SEA B even if SEA B's consortium arrangements permit more total funds to be used for direct services.

Example 2: SEA C and SEA D participate together in one consortium, and this consortium is the only one in which each SEA participates. If the amount available for direct services increases in total across the two States due to their participation in the consortium, but the amount available for direct services in State C does not increase, the consortium arrangement will be approved, but only State D, and not State C, will receive an incentive grant.

From the information that an SEA submits, the Secretary will calculate, for each State, the total percentage increase in MEP funds available for direct services as a result of all the approved consortium arrangements in which the applicant SEA participates. The Secretary will then rank these percentages in descending order and divide the distribution into thirds (that is, into terciles). Each SEA ranked in the highest third of the distribution will receive an incentive grant that is three times the size of the grant received by each SEA ranked in the lowest third, while each SEA ranked in the middle third will receive an incentive grant that is twice the size of that provided to each SEA ranked in the lowest third. Within each third, grant awards will be of equal size, except that adjustments will be made so that no consortium incentive grant will be greater than $250,000 or 100 percent of the amount of funds awarded to the SEA under its formula grant allocation, whichever is less.

Use of Consortium Incentive Grant Funds

An SEA may use incentive grant funds awarded under section 1308(d) of the ESEA only to provide direct services to migrant children. These funds are in addition to, and not in place of, the funds awarded under the MEP formula grant.

Applicable Regulations

In view of the process that the Secretary proposes to use to obtain information on proposed SEA consortium arrangements, and the criteria it proposes to use to determine, by formula, the amount of the consortium incentive grant that each applicant SEA will receive, the regulations in 34 CFR part 75 (Direct Grant Programs) of the Education Department General Administrative Regulations (EDGAR) do not apply. Instead, the consortium incentive grant program will be administered, like the MEP itself, under the provisions of 34 CFR parts 76, 77, 79, 80, 82 and 85 of EDGAR.

For Applications and Further Information Contact: To obtain a copy of the application or to obtain information on the program, call or write James English, U.S. Department of Education, Office of Elementary and Secondary Education, Office of Migrant Education, 400 Maryland Ave., SW., Room 3E315, FOB6, Washington, DC 20202-6135. Telephone: (202) 260-1394. Inquiries may be sent by e-mail to james.english@ed.gov or by FAX at (202) 205-0089. If you use a telecommunications device for the deaf (TDD), you may call the Federal Information Relay Service (FIRS) at 1-800-877-8339. A copy of the application can be obtained electronically at: http://www.ed.gov/GrantApps.

Individuals who use a telecommunications device for the deaf (TDD) may call may call the Federal Information Relay Service (FIRS) at 1-800-877-8339. Individuals with disabilities may obtain this document in an alternative format (e.g., Braille, large print, audiotape or computer diskette) on request to the contact person listed in the preceding paragraph.

Electronic Access to This Document

You may view this document, as well as all other Department of Education documents published in the Federal Register, in text or Adobe Portable Format (PDF) on the Internet at the following site: www.ed.gov/legislation/FedRegister.

To use PDF you must have Adobe Acrobat reader, which is available free at this site. If you have questions about using PDF, call the U.S. Government Printing Office toll free at 1-888-293-6498; or in the Washington, DC area at 202-512-1530.

Note: The official version of this document is the document published in the Federal Register. Free Internet access to the official edition of the Federal Register and the Code of Federal Regulations is available on GPO Access at: http://www.access.gpo.gov/nara/index.html.

Program Authority: 20 U.S.C. 6398(d).

Dated: April 22, 2002.
Susan B. Neuman,
Assistant Secretary for Elementary and Secondary Education.

[FR Doc. 02-10357 Filed 4-25-02; 8:45 am]

BILLING CODE 4000-01-P